FEDERAL ELECTION COMMISSION

Sunshine Act Meetings

FEDERAL REGISTER CITATION NOTICE OF PREVIOUS ANNOUNCEMENT: 88 FR 21674.

PREVIOUSLY ANNOUNCED TIME AND DATE OF THE MEETING: Wednesday, April 19, 2023 at 10:30 a.m.

Hybrid meeting: 1050 First Street NE, Washington, DC (12th floor) and virtual.

CHANGES IN THE MEETING: The following matter was also considered: Press Office Acknowledgement of Complaints.

CONTACT PERSON FOR MORE INFORMATION: Judith Ingram, Press Officer, telephone: (202) 694-1220.

(Authority: Government in the Sunshine Act, 5 U.S.C. 552b.)

Vicktoria J. Allen,
Deputy Secretary of the Commission.

[FR Doc. 2023-08658 Filed 4-20-23; 11:15 am]

BILLING CODE 6715-01-P